COMMITTEE FOR PURCHASE FROM PEOPLE WHO ARE BLIND OR SEVERELY DISABLED

Procurement List; Proposed Additions and Deletions

AGENCY: Committee for Purchase from People Who are Blind or Severely Disabled.

ACTION: Proposed additions to and deletions from the Procurement List.

SUMMARY: The Committee is proposing to add a product and services to the Procurement List that will be furnished by nonprofit agencies employing persons who are blind or have other severe disabilities, and delete products previously furnished by such agency.

DATES: Comments must be received on or before: 4/13/2015.

ADDRESSES: Committee for Purchase from People Who are Blind or Severely Disabled, 1401 S. Clark Street, Suite 715, Arlington, Virginia, 22202-4149.

FOR FURTHER INFORMATION CONTACT: For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

Product Name/NSN: Padfolio with Pen, Department of State Logo, 8-1/2” x 11”/7510-01-NIB-1015.

Mandatory for Purchase by: Department of State Diplomatic Security Service Arlington, VA.

Manadatory Source of Supply: Industries for the Blind, Inc., West Allis, WI.

Contracting Activity: Department of State, DS Office of Acquisition Management Arlington, VA.

Distribution: C-List.

Services

Service Type: Janitorial Service.

Service is Mandatory for: USDA, Agricultural Research Service Grassland, Soil and Water Research Laboratory, 808 East Blackland Road, Temple, TX.

Mandatory Source of Supply: Rising Star Resource Development Corporation, Dallas, TX.

Contracting Activity: USDA ARS SPA 7MN1, East College Station, TX.

Service Type: Mail Service.

Service is Mandatory for: US Air Force, Dyess AFB, TX.

Mandatory Source of Supply: Training, Rehabilitation, & Development Institute, Inc., San Antonio, TX.

Contracting Activity: Dept of the Air Force, FA4661 7 CONS CD, Dyess AFB, TX.

Deletions

The following products are proposed for deletion from the Procurement List:

Products

Product Name/NSNS: Cap, Operating, Surgical, 6532-00-250-5041, 6532-00-250-5042.

Mandatory Source of Supply: Allied Health Care Services, Clarks Summit, PA.

Contracting Activity: Defense Logistics Agency Troop Support, Philadelphia, PA.

Barry S. Lineback,
Director, Business Operations.

[FR Doc. 2015-05782 Filed 3-12-15; 8:45 am]

BILLING CODE P